DEPARTMENT OF THE INTERIOR

Fish and Wildlife Service

AGENCY: Fish and Wildlife Service, Interior.

ACTION: Notice of Intent To Prepare a Comprehensive Conservation Plan and Associated Environmental Impact Statement.

SUMMARY: This notice advises the public that the U.S. Fish and Wildlife Service (Service) is preparing a Comprehensive Conservation Plan (CCP) and an Environmental Impact Statement (EIS) for Nisqually National Wildlife Refuge, Thurston and Pierce Counties, Washington. The Service is furnishing this notice in compliance with Service CCP policy and the National Environmental Policy Act (NEPA) and implementing regulations to advise other agencies and the public of our intentions.

DATES: Submit comments on or before March 10, 2000.

ADDRESSES: Address comments and requests for more information to: Refuge Manager, Nisqually National Wildlife Refuge, 100 Brown Farm Road, Olympia, Washington, 98516.

Submit electronic mail comments to: FW1Public_Comments_ Nisqually@fws.gov. See Submitting Comments under SUPPLEMENTARY INFORMATION for file formats and other information about electronic commenting.

FOR FURTHER INFORMATION CONTACT: Refuge Manager Jean Takekawa at (360) 753-9467 (see ADDRESSES section for mailing address).

SUPPLEMENTARY INFORMATION:

Background

During the Environmental Assessment development process, a further determination was made that an EIS should be prepared to address NEPA requirements for the development of the CCP. A previous notice to prepare a CCP was published in the Federal Register (62 FR 52764-52765, Oct. 9, 1997).

It is Service policy to have all lands within the National Wildlife Refuge (NWR) System managed in accordance with an approved CCP. The CCP guides management decisions and identifies refuge goals, long-range objectives, and strategies for achieving refuge purposes. Public input into this planning process is encouraged. The CCP will provide other agencies and the public with a clear understanding of the desired conditions for the Refuge and how the Service will implement management strategies.

The Nisqually NWR was established in 1974, “* * * for use as an inviolate sanctuary, or for any other management purposes, for migratory birds” (16 U.S.C. 715d). A CCP is needed to update the 1978 Nisqually NWR Conceptual Plan and facilitate potential changes in habitat management and public uses, with full public participation. The major issues to be addressed in the CCP include habitat protection and enhancement, boundary expansion and completion of the Refuge, riparian and tidal restoration, control of invasive and exotic vegetation, future flooding, compatibility of secondary uses, public access and accessibility, fishing, and waterfowl hunting.

Starting in 1996, issues, goals, and other comments on the CCP were submitted by persons and organizations involved in the scoping process including: the Washington Department of Fish and Wildlife; Ft. Lewis; the Nisqually Indian Tribe; Thurston and Pierce Counties; members of national, state, and local conservation organizations; neighboring landowners; and other interested citizens. Comments and concerns received are being used to draft alternatives.

Five planning updates have been mailed out to approximately 600 addresses. The first two updates soliciting comments were mailed in August and November 1996. The third update, which announced the public open houses, was mailed in November 1997. Comments received were used to develop goals, key issues, and habitat management strategies that were presented at public open houses in the fall of 1997. In addition, more than 600 issues workbooks were mailed or distributed at the open houses. The workbook, offered people a chance to provide input on the CCP, draft Refuge goals, and four main issues, including: (1) Changing the mix of habitat types at the Refuge; (2) trail access and configuration; (3) waterfowl hunting; and (4) Refuge expansion and land protection. Planning update number four, mailed in April 1998, summarized the comments received from the workbook. Update number five was mailed in December 1998, and summarized the results of three workshops which focused on: public use; grasslands; and estuarine and freshwater wetlands restoration and management. Copies of these planning updates may be requested from the Refuge.

Submitting Comments

With the publication of this notice, the public is encouraged to send written comments. Comments already received are on record and need not be resubmitted. All comments received from individuals on a draft EIS become part of the official public record. Requests for such comments will be handled in accordance with the Freedom of Information Act, Council on Environmental Quality's NEPA regulations 40 CFR 1506.6(f), and other Service and Department policy and procedures. When requested, the Service generally will provide comment letters with the names and addresses of the individuals who wrote the comments. However, the telephone number of the commenting individual will not be provided in response to such requests to the extent permissible by law. Additionally, public comment letters are not required to contain the author's name, address, or other identifying information. Such comments may be submitted anonymously to the Service.

You may submit comments by sending electronic mail (e-mail) to: FW1Public_Comments_ Nisqually@fws.gov. Submit comments as an ASCII file, avoiding the use of special characters and any form of encryption. On the e-mail message title line, please note that your message is in response to the Nisqually NWR Draft CCP and Draft EIS.

The environmental review of this project will be conducted in accordance with the requirements of the National Environmental Policy Act of 1969, as amended (42 U.S.C. 4321 et seq.), NEPA Regulations (40 CFR 1500-1508), other appropriate Federal laws and regulations, Executive Order 12996, and Service policies and procedures for compliance with those regulations. We estimate that the Draft CCP and Draft EIS will be available by Summer 2000.

Dated: January 28, 2000.
Thomas Dwyer,
Regional Director, Region 1, Portland, Oregon.

[FR Doc. 00-2871 Filed 2-8-00; 8:45 am]

BILLING CODE 4310-55-P